INTERNATIONAL TRADE COMMISSION

[Investigation No. 731-TA-1373 (Preliminary)]

Fine Denier Polyester Staple Fiber From Vietnam; Termination of Investigation

AGENCY: United States International Trade Commission.

ACTION: Notice of termination of investigation.

SUMMARY: On July 13, 2017, the Department of Commerce terminated its antidumping duty investigation of imports of fine denier polyester staple fiber from Vietnam, following a request for withdrawal of the petition. Accordingly, the Commission is terminating its antidumping duty investigation concerning fine denier polyester staple fiber from Vietnam (Investigation No. 731-TA-1373 (Preliminary)).

DATES: July 13, 2017.

FOR FURTHER INFORMATION CONTACT: Calvin Chang (202-205-3062), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (https://www.usitc.gov). The public record for this investigation may be viewed on the Commission's electronic docket (EDIS) at https://edis.usitc.gov.

Authority: This investigation is being terminated under authority of title VII of the Tariff Act of 1930 and pursuant to section 207.40(a) of the Commission's Rules of Practice and Procedure (19 CFR 207.40(a)). This notice is published pursuant to section 201.10 of the Commission's rules (19 CFR 201.10).

By order of the Commission.
Issued: July 17, 2017.
Lisa R. Barton,
Secretary to the Commission.

[FR Doc. 2017-15301 Filed 7-20-17; 8:45 am]

BILLING CODE 7020-02-P